NUCLEAR REGULATORY COMMISSION

[Docket No. 70-1257; NRC-2009-0147]

Notice of Renewal of Special Nuclear Material License No. SNM-1227 [AREVA NP, Inc., Richland, WA]

AGENCY: Nuclear Regulatory Commission.

ACTION: Notice of renewal of license.

FOR FURTHER INFORMATION CONTACT: Rafael L. Rodriguez, Project Manager, Fuel Manufacturing Branch, Division of Fuel Cycle Safety and Safeguards, Office of Nuclear Material Safety and Safeguards, U.S. Nuclear Regulatory Commission, Rockville, MD 20852. Telephone: (301) 492-3111; Fax number: (301) 492-3363; E-mail: Rafael.Rodriguez@nrc.gov.

SUPPLEMENTARY INFORMATION:

I. Introduction

By letter dated October 24, 2006, AREVA NP, Inc. (AREVA) requested the renewal of Special Nuclear Material License No. SNM-1227. Pursuant to Title 10 of the Code of Federal Regulations (10 CFR), Section 2.106, the U.S. Nuclear Regulatory Commission (NRC) is providing notice that Special Nuclear Material License No. SNM-1227, which authorizes AREVA to possess and process enriched uranium up to a maximum of five weight percent uranium-235, for the manufacture of fuel assemblies for commercial nuclear power plants (both pressurized water reactors and boiling water reactors) at its fuel fabrication facility in Richland, Washington, has been renewed for a period of 40 years. AREVA's request for the proposed renewed license was previously noticed, and an opportunity to request a hearing provided, in the Federal Register on March 15, 2007 (72 FR 12202). A Notice of Availability of Environmental Assessment and Finding of No Significant Impact has been noticed in the Federal Register on April 3, 2009 (74 FR 15312).

This license complies with the standards and requirements of the Atomic Energy Act of 1954, as amended, and NRC's rules and regulations as set forth in 10 CFR Chapter 1. Accordingly, this license was renewed on April 24, 2009, and is effective immediately.

II. Further Information

The NRC has prepared a Safety Evaluation Report (SER) that documents the information that was reviewed and the NRC's conclusion. In accordance with 10 CFR 2.390 of the NRC's “Rules of Practice,” details with respect to this action, including the SER and accompanying documentation included in the license package, are available electronically at the NRC's Electronic Reading Room at http://www.nrc.gov/reading-rm/adams.html. From this site, you can access the NRC's Agencywide Document Access and Management System (ADAMS), which provides text and image files of NRC's public documents. The ADAMS accession numbers for the documents related to this notice are:

(1) October 24, 2006, License Renewal Application and Environmental Report: ML063110082.

(2) December 13, 2006, Supplement to License Renewal Application: ML063530128.

(3) December 10, 2008, Revised License Renewal Application: ML090400202.

(4) SER in Support of License Renewal Application (Public Version): ML090760702.

(5) Special Nuclear Materials License No. SNM-1227 (Public Version): ML090680579.

If you do not have access to ADAMS, or if there are problems in accessing the documents located in ADAMS, contact the NRC Public Document Room (PDR) Reference staff at 1-800-397-4209, 301-415-4737 or by e-mail to PDR.Resource@nrc.gov.

These documents may also be viewed electronically on the public computers located at the NRC's Public Document Room (PDR), O-1 F21, One White Flint North, 11555 Rockville Pike, Rockville, MD 20852. The PDR reproduction contractor will copy documents for a fee.

Dated at Rockville, MD this 18th day of May, 2009.
For the Nuclear Regulatory Commission.
Peter J. Habighorst,
Chief, Fuel Manufacturing Branch, Division of Fuel Cycle Safety and Safeguards, Office of Nuclear Material Safety and Safeguards.

[FR Doc. E9-12096 Filed 5-22-09; 8:45 am]

BILLING CODE 7590-01-P